DEPARTMENT OF TRANSPORTATION

Federal Aviation Administration

14 CFR Part 39

[Docket No. 2003-CE-38-AD]

RIN 2120-AA64

Airworthiness Directives; Pacific Aerospace Corporation, Ltd. Models FU24-954 and FU24A-954 Airplanes

AGENCY: Federal Aviation Administration (FAA), DOT.

ACTION: Notice of proposed rulemaking (NPRM).

SUMMARY: The FAA proposes to adopt a new airworthiness directive (AD) for all Pacific Aerospace Corporation, Ltd. Models FU24-954 and FU24A-954 airplanes. This proposed AD would require you to perform repetitive detailed visual inspections of the forward vertical fin base for cracks. If any cracks or discrepancies are found, you must repair the structure before further flight and notify the FAA. This proposed AD is the result of mandatory continuing airworthiness information (MCAI) issued by the airworthiness authority for New Zealand. We are issuing this proposed AD to detect and correct cracks in the vertical fin base, which could result in loss of the fin and loss of aircraft control.

DATES: We must receive any comments on this proposed AD by December 8, 2003.

ADDRESSES: Use one of the following to submit comments on this proposed AD:

• By mail: FAA, Central Region, Office of the Regional Counsel, Attention: Rules Docket No. 2003-CE-38-AD, 901 Locust, Room 506, Kansas City, Missouri 64106.

• By fax: (816) 329-3771.

• By e-mail: 9-ACE-7-Docket@faa.gov. Comments sent electronically must contain “Docket No. 2003-CE-38-AD” in the subject line. If you send comments electronically as attached electronic files, the files must be formatted in Microsoft Word 97 for Windows or ASCII.

You may view the AD docket at FAA, Central Region, Office of the Regional Counsel, Attention: Rules Docket No. 2003-CE-38-AD, 901 Locust, Room 506, Kansas City, Missouri 64106. Office hours are 8 a.m. to 4 p.m., Monday through Friday, except Federal holidays.

FOR FURTHER INFORMATION CONTACT: Karl Schletzbaum, Aerospace Engineer, Small Airplane Directorate, 901 Locust, Room 302, Kansas City, MO 64106; telephone: 816-329-4146; facsimile: 816-329-4090.

SUPPLEMENTARY INFORMATION:

Comments Invited

How Do I Comment on This Proposed AD?

We invite you to submit any written relevant data, views, or arguments regarding this proposal. Send your comments to an address listed under ADDRESSES. Include “AD Docket No. 2003-CE-38-AD” in the subject line of your comments. If you want us to acknowledge receipt of your mailed comments, send us a self-addressed, stamped postcard with the docket number written on it. We will date-stamp your postcard and mail it back to you.

Are There Any Specific Portions of This Proposed AD I Should Pay Attention to?

We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What Events Have Caused This Proposed AD?

The CAA, which is the airworthiness authority for New Zealand, notified the FAA of an unsafe condition that may exist on all Pacific Aerospace Corporation, Ltd. Models FU24-954 and FU24A-954 airplanes. The CAA reports a recent fatal accident where the aircraft's fin separated in flight. Initial investigation of this accident indicates that the forward fin structure failed from fatigue cracks that were concealed beneath the rubber abrasion protection fitted to the fin.

What Are the Consequences if the Condition Is Not Corrected?

Failure to detect cracks in the vertical fin base could result in loss of the fin and loss of aircraft control.

Is There Service Information That Applies to This Subject?

No.

What Action Did the CAA Take?

The CAA issued New Zealand AD Number DCA/FU24/173, dated 23 April 2002, in order to ensure the continued airworthiness of these airplanes in New Zealand.

Was This in Accordance With the Bilateral Airworthiness Agreement?

These Pacific Aerospace Corporation, Ltd. Models FU24-954 and FU24A-954 airplanes are manufactured in New Zealand and are type-certificated for operation in the United States under the provisions of section 21.29 of the Federal Aviation Regulations (14 CFR 21.29) and the applicable bilateral airworthiness agreement.

Per this bilateral airworthiness agreement, the CAA has kept us informed of the situation described above.

FAA's Determination and Requirements of This Proposed AD

What Has FAA Decided?

We have examined the CAA's findings, reviewed all available information, and determined that AD action is necessary for products of this type design that are certificated for operation in the United States.

Since the unsafe condition described previously is likely to exist or develop on other Pacific Aerospace Corporation, Ltd. Models FU24-954 and FU24A-954 airplanes of the same type design that are registered in the United States, we are proposing AD action to detect cracks in the vertical fin base, which could result in loss of the fin and loss of aircraft control.

What Would This Proposed AD Require?

This proposed AD would require you to perform repetitive detailed visual inspections of the forward vertical fin base for cracks. If any cracks or discrepancies are found, you must repair the structure before further flight and notify the FAA.

How Does the Revision to 14 CFR Part 39 Affect This Proposed AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How Many Airplanes Would This Proposed AD Impact?

We estimate that this proposed AD affects 2 airplanes in the U.S. registry.

What Would Be the Cost Impact of This Proposed AD on Owners/Operators of the Affected Airplanes?

We estimate the following costs to accomplish this proposed inspection:

Labor cost | Parts cost | Total cost per airplane | Total cost on U.S. operators
8 work hours est. $60 per hour = $480 | No parts needed for inspection | $480 per airplane | $960

The FAA has no method of determining the number of repairs each owner/operator would incur over the life of each of the affected airplanes based on the results of the proposed inspections. We have no way of determining the number of airplanes that may need such repair. The extent of damage may vary on each airplane.

Regulatory Findings

Would This Proposed AD Impact Various Entities?

We have determined that this proposed AD would not have federalism implications under Executive Order 13132. This proposed AD would not have a substantial direct effect on the States, on the relationship between the national Government and the States, or on the distribution of power and responsibilities among the various levels of government.

Would This Proposed AD Involve a Significant Rule or Regulatory Action?

For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-38-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pacific Aerospace Corporation, Ltd.: Docket No. 2003-CE-38-AD.

When Is the Last Date I Can Submit Comments on This Proposed AD?

(a) We must receive comments on this proposed airworthiness directive (AD) by December 8, 2003.

What Other ADs Are Affected by This Action?

(b) None.

What Airplanes Are Affected by This AD?

(c) This AD affects the following airplane models and serial numbers that are certificated in any category: Pacific Aerospace Corporation, Ltd. Models FU24-954 and FU24A-954 airplanes, all serial numbers, that are certificated in any category.

What Is the Unsafe Condition Presented in This AD?

(d) This AD is the result of a recent fatal accident where the aircraft's fin separated in flight. The actions specified in this AD are intended to detect and correct cracks in the vertical fin base, which could result in loss of the fin or loss of control of the aircraft.

What Must I Do To Address This Problem?

(e) To address this problem, you must accomplish the following:

Actions | Compliance | Procedures
(1) Perform visual inspection of the forward area at the base of the fin for cracks | Initially inspect within the next 50 hours time-in-service (TIS) after the effective date of this AD. Repetitively inspect every 100 hours TIS thereafter | Inspect from the bottom of the fin up to the first external strap, paying particular attention to the skin in the area of the rivets that join the fin skin to bulkhead, part number (P/N) 242305, and aft to the first vertical lap joint. To do this inspection, remove any rubber abrasion protection that is fitted in this area, including any sealant. You must also remove the fin leading edge fairing, P/N 242321.
(2) Repair any cracks that are found during the inspection | Prior to further flight after doing any inspection required in paragraph (e)(1) of this AD | Obtain FAA-approved repair scheme from manufacturer and notify FAA at the address and phone number in paragraph (f) of this AD.

What About Alternative Methods of Compliance?

(f) You may request a different method of compliance or a different compliance time for this AD by following the procedures in 14 CFR 39.13. Send your request to the Manager, FAA, Small Airplane Directorate. For information on any already approved alternative methods of compliance, contact Karl Schletzbaum, Aerospace Engineer, Small Airplane Directorate, 901 Locust, Room 301, Kansas City, MO 64106; telephone: 816-329-4146; facsimile: 816-329-4090.

Is There Other Information That Relates to This Subject?

(g) CAA airworthiness directive DCA/FU24/173, dated April 23, 2002, also addresses the subject of this AD.

Issued in Kansas City, Missouri, on October 22, 2003.
Michael Gallagher,
Manager, Small Airplane Directorate, Aircraft Certification Service.

[FR Doc. 03-27212 Filed 10-29-03; 8:45 am]

BILLING CODE 4910-13-P